DEPARTMENT OF VETERANS AFFAIRS

Cost-Based and Inter-Agency Billing Rates for Medical Care or Services Provided by the Department of Veterans Affairs for Fiscal Year 2022

AGENCY: Department of Veterans Affairs.

ACTION: Notice.

SUMMARY: This document updates the Cost-Based and Inter-Agency billing rates for medical care or services provided by the U.S. Department of Veterans Affairs (VA) furnished in certain circumstances.

DATES: The rates set forth herein are effective October 1, 2021.

FOR FURTHER INFORMATION CONTACT: Ms. Debra Vatthauer, Office of Community Care, Revenue Operations, Payer Relations and Services, Rates and Charges (13RO1), Veterans Health Administration, Department of Veterans Affairs, 128 Bingham Road, Suite 1000, Asheville, NC 28806; telephone: 608-821-7346 (this is not a toll-free number).

SUPPLEMENTARY INFORMATION: VA's methodology for computing Cost-Based and Inter-Agency rates for medical care or services provided by VA is set forth in section 17.102(h) of title 38 Code of Federal Regulations (CFR). Two sets of rates are obtained by applying this methodology, Cost-Based and Inter-Agency.

Cost-Based rates apply to medical care and services that are provided by VA under 38 CFR 17.102(a), (b), (d) and (g), respectively, in the following circumstances:

• In error or based on tentative eligibility;

• In a medical emergency;

• To pensioners of allied nations; and

• For research purposes in circumstances under which the medical care appropriation shall be reimbursed from the research appropriation.

Inter-Agency rates apply to medical care and services that are provided by VA under § 17.102(c) and (f), respectively, in the following circumstances when the care or services provided are not covered by any applicable sharing agreement in accordance with § 17.102(e):

• To beneficiaries of the Department of Defense or other Federal agencies; and

• To military retirees with chronic disability.

The calculations for the Cost-Based and Inter-Agency rates are the same with two exceptions. Inter-Agency rates are all-inclusive and are not broken down into three components (i.e., Physician; Ancillary; and Nursing, Room and Board), and do not include standard fringe benefit costs that cover Government employee retirement, disability costs, and return on fixed assets.

The following table depicts the Cost-Based and Inter-Agency rates that are effective October 1, 2021 and will remain in effect until the next fiscal year Federal Register update. These rates supersede those established by the Federal Register notice published on July 28, 2020, at 85 FR 45471.

| Cost-based rates | Inter-agency rates
A. Hospital Care per inpatient day
General Medicine:
All Inclusive Rate | $5,466 | $5,318
Physician | 654 |
Ancillary | 1,424 |
Nursing Room and Board | 3,388 |
Neurology:
All Inclusive Rate | 5,127 | 4,981
Physician | 751 |
Ancillary | 1,354 |
Nursing Room and Board | 3,022 |
Rehabilitation Medicine:
All Inclusive Rate | 3,963 | 3,846
Physician | 450 |
Ancillary | 1,211 |
Nursing Room and Board | 2,302 |
Blind Rehabilitation:
All Inclusive Rate | 2,933 | 2,843
Physician | 236 |
Ancillary | 1,457 |
Nursing Room and Board | 1,240 |
Spinal Cord Injury:
All Inclusive Rate | 3,548 | 3,443
Physician | 440 |
Ancillary | 893 |
Nursing Room and Board | 2,215 |
Surgery:
All Inclusive Rate | 9,756 | 9,490
Physician | 1,075 |
Ancillary | 2,959 |
Nursing Room and Board | 5,722 |
General Psychiatry:
All Inclusive Rate | 2,875 | 2,788
Physician | 271 |
Ancillary | 453 |
Nursing Room and Board | 2,151 |
Substance Abuse (Alcohol and Drug Treatment):
All Inclusive Rate | 2,744 | 2,663
Physician | 262 |
Ancillary | 635 |
Nursing Room and Board | 1,847 |
Psychosocial Residential Rehabilitation Program:
All Inclusive Rate | 358 | 348
Physician | 23 |
Ancillary | 38 |
Nursing Room and Board | 297 |
Intermediate Medicine:
All Inclusive Rate | 3,269 | 3,179
Physician | 161 |
Ancillary | 480 |
Nursing Room and Board | 2,628 |
Poly-trauma Inpatient:
All Inclusive Rate | 3,936 | 3,805
Physician | 447 |
Ancillary | 1,202 |
Nursing Room and Board | 2,287 |
B. Nursing Home Care, Per Day
All Inclusive Rate | 1,750 | 1,698
Physician | 54 |
Ancillary | 237 |
Nursing Room and Board | 1,459 |
C. Outpatient Medical Treatments
Outpatient Visit (to include Ineligible Emergency Dental Care) | 506 | 493
Outpatient Physical Medicine & Rehabilitation Service Visit | 347 | 336
Outpatient Poly-trauma/Traumatic Brain Injury | 678 | 660

Signing Authority

Denis McDonough, Secretary of Veterans Affairs, approved this document on July 30, 2021, and authorized the undersigned to sign and submit the document to the Office of the Federal Register for publication electronically as an official document of the Department of Veterans Affairs.

Luvenia Potts,
Regulation Development Coordinator Office of Regulation Policy & Management, Office of the Secretary, Department of Veterans Affairs.

[FR Doc. 2021-16627 Filed 8-3-21; 8:45 am]

BILLING CODE 8320-01-P